FEDERAL COMMUNICATIONS COMMISSION

[FRS 17569]

Privacy Act of 1974; System of Records

AGENCY: Federal Communications Commission.

ACTION: Rescindment of two systems of records notices.

SUMMARY: The Federal Communications Commission (FCC) proposes to rescind two systems of records, FCC/OMD-20, Inter-office and Internet Email Systems, and FCC/OMD-22, Equipment Loan Records. The systems contained information concerning the names, email addresses, passwords, and badge numbers of FCC employees and contractors, as well as loaned electronic equipment, e.g., laptops, pagers, cellular telephones, and RSA Secure Tokens by the FCC to employees.

DATES: This action will become effective on April 16, 2021.

ADDRESSES: Send comments to the Privacy Team, Federal Communications Commission, 45 L Street NE, Washington, DC 20554, or Privacy@fcc.gov.

FOR FURTHER INFORMATION CONTACT: Margaret Drake, Privacy Team, Federal Communications Commission, 45 L Street NE, Washington, DC 20554, 202-418-1707, or Privacy@fcc.gov.

SUPPLEMENTARY INFORMATION: The Privacy Act provides that an agency may only collect or maintain in its records information about individuals that is relevant and necessary to accomplish a purpose that is required by a statute or executive order. If a system of records is comprised of records that no longer meet this standard, the Privacy Act may require agencies to stop maintaining the system and expunge the records in accordance with the requirements in the SORN and the applicable records retention or disposition schedule approved by the National Archives and Records Administration. The System manager has deemed these systems obsolete and has declared that the records are no longer relevant to accomplish an agency mission/purpose identified. The categories of records in this system are no longer collectively maintained in a system of records. Therefore, consistent with the Privacy Act of 1974 (5 U.S.C. 552a) and the Office of Management and Budget (OMB) Circular No. A.108, the FCC proposes to rescind these two systems.

SYSTEM NAME(S) AND NUMBER(S):

The FCC/OMD-20, Inter-office and Internet Email Systems, and FCC/OMD-22, Equipment Loan Records.

HISTORY:

71 FR 17265 (Apr. 5, 2006) and 71 FR 17267 (Apr. 5, 2006).

Federal Communications Commission.
Marlene Dortch,
Secretary.

[FR Doc. 2021-05541 Filed 3-16-21; 8:45 am]

BILLING CODE 6712-01-P